DEPARTMENT OF HEALTH AND HUMAN SERVICES

Centers for Disease Control and Prevention

[60Day-17-17BM; Docket No. CDC-2016-0102]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on Measuring Worker Well-being for Total Worker Health®. This project will provide a tool to measure worker well-being across a range of important domains. Measuring worker well-being is an important initial step towards improving workplace policies, programs, and practices to promote safety and health and prevent disease for employees.

DATES: Written comments must be received on or before January 13, 2017.

ADDRESSES: You may submit comments, identified by Docket No. CDC-2016-0102 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information.

Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Measuring Worker Well-being for Total Worker Health—New—National Institute for Occupational Safety and Health (NIOSH)—Centers for Disease Control and Prevention (CDC).

Background and Brief Description

As described in the Occupational Safety and Health Act of 1970 (PL 91-596), the mission of NIOSH is to conduct research and investigations on work-related disease and injury and to disseminate information for preventing identified workplace hazards (Sections 20 (a) (1) and (d), Attachment 1). NIOSH is requesting a one-year approval for this data collection.

Measuring worker well-being is the first step towards improving workplace policies, programs, and practices to promote prevention of disease and injury.

The Total Worker Health® Program within NIOSH has made worker well-being a key aspect of its mission. The Total Worker Health (TWH) Program encompasses policies, programs, and practices that integrate protection from work-related safety and health hazards with promotion of injury and illness prevention efforts to advance worker well-being. The goal of TWH is not only to prevent disease or injury, but also to promote a culture of safety and health and an enhancement of overall well-being.

In order to promote and enhance worker well-being it is first necessary to develop and validate instruments aimed at measuring the concept. This study is intended to generate data that can be used to validate a worker well-being survey instrument through testing of its psychometric properties. The survey includes questions on five domains of worker well-being including: worker evaluation and experiences with work; workplace physical environment and safety climate; organizational policies and culture; worker health status; and experiences outside of work (external context).

For this study, the survey instrument will be programmed into a web-based survey that will be administered online to an existing nationwide survey panel of employed adults (KnowledgePanel®) hosted by our vendor, GfK. De-identified data will be transmitted securely to RAND, and RAND researchers will analyze the data as a CDC contractor.

The survey will be fielded to approximately 1,025 respondents in the GFK panel, and the expected burden per respondent for reading the email and completing the survey is 15 minutes or 0.25 hours of their time. This will be a one-time survey and panelists will not be asked to respond to this survey again in the future. The total estimated burden hours are 385 for reading the recruitment email and responding to the survey. There are no costs to the respondent other than their time.

Estimated Annualized Burden Hours
Respondents | Form name | Number of respondents | Number of responses per respondent | Average burden per response (in hrs.) | Total burden (in hrs.)
GFK Panelists | Recruitment email | 1,540 | 1 | 5/60 | 128
GFK Panelists | Worker Well-being survey | 1,025 | 1 | 15/60 | 257
Total |  |  |  |  | 385

Leroy A. Richardson,
Chief, Information Collection Review Office, Office of Scientific Integrity, Office of the Associate Director for Science, Office of the Director, Centers for Disease Control and Prevention.

[FR Doc. 2016-27261 Filed 11-10-16; 8:45 am]

BILLING CODE 4163-18-P